DEPARTMENT OF THE INTERIOR

National Park Service

[NPS-WASO-NAGPRA-NPS0031778; PPWOCRADN0-PCU00RP14.R50000]

Notice of Intent To Repatriate Cultural Items: Nebraska State Historical Society, DBA History Nebraska, Lincoln, NE

AGENCY: National Park Service, Interior.

ACTION: Notice.

SUMMARY: History Nebraska, in consultation with the appropriate Indian Tribes or Native Hawaiian organizations, has determined that the cultural items listed in this notice meet the definition of unassociated funerary objects. Lineal descendants or representatives of any Indian Tribe or Native Hawaiian organization not identified in this notice that wish to claim these cultural items should submit a written request to History Nebraska. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to History Nebraska at the address in this notice by May 27, 2021.

ADDRESSES: Rob Bozell, History Nebraska, 5050 N 32nd Street, Lincoln, NE 68504, telephone (402) 525-1624, email rob.bozell@nebraska.gov.

SUPPLEMENTARY INFORMATION: Notice is here given in accordance with the Native American Graves Protection and Repatriation Act (NAGPRA), 25 U.S.C. 3005, of the intent to repatriate cultural items under the control of History Nebraska, Lincoln, NE, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1930 and 1939, 12 cultural items were removed from cemeteries associated with the Linwood site (25BU1) in Butler County, NE. These objects were recovered during archeological excavations by the Nebraska State Historical Society. The 12 unassociated funerary objects are small geological samples extracted from pipestone smoking pipes that had been recovered from graves. The pipes themselves were repatriated to the Pawnee Nation of Oklahoma in 1990-1991.

The Linwood site was occupied by the Pawnee (mostly the Grand Band) intermittently during the period 1750s-1809 and 1850-1853, based on archeological and ethnohistorical information, as well as oral traditional information provided by the Pawnee Nation of Oklahoma.

In 1940, four cultural items were removed from a cemetery identified as the Burial Ridge site (25HM2) in Hamilton County, NE. The site might also be a Pawnee sacred place. These objects were recovered during archeological excavations by the Nebraska State Historical Society. The four unassociated funerary objects are three shell beads and one piece of wood. The objects were most likely dislodged from graves through natural processes. There are no other archeological features on this landform other than graves. Human skeletal remains and associated funerary objects from this site were repatriated to the Pawnee Nation of Oklahoma in 1990-1991.

The Burial Ridge site is clearly associated with the Pawnee, based on archeological and ethnohistorical information, as well as oral traditional information provided by members of the Pawnee Nation of Oklahoma.

In 1960, 1966, and 1970, 353 cultural items were removed from cemeteries associated with the Genoa site (25NC6/20) in Nance County, NE. These objects were recovered during archeological excavations by the Nebraska State Historical Society in response to construction impacts. The 353 objects are listed as having been removed from `burial areas.' They had been disturbed and scattered by construction equipment. Human skeletal remains and associated funerary objects from this site were repatriated to the Pawnee Nation of Oklahoma in 1990-1991. The 353 unassociated funerary objects are: Five animal bones, 13 metal bells, one bone utensil handle, three bottle glass fragments, one bridle bit, one metal buckle, one bullet mold, three buttons, 25 chipped stone flakes, one chipped stone projectile point, 14 chipped stone scrapers, four cloth/felt fragments, five thin cut glass fragments, seven ear bobs, four Euroamerican ceramic sherds, one Euroamerican pipe fragment, one French gunflint, one glass fragment, 67 glass beads, one chipped glass scraper, four ground stone tools, two gun parts, one hammerstone, three iron kettle handles, one iron projectile point, one metal coil, nine metal finger rings, three nails, 85 native-made ceramic bodysherds, 12 native-made ceramic rimsherds, four ocher/pigment fragments, nine leather fragments, 28 scrap metal fragments, 20 seeds, three spoons, one thimble, five tinkling cones, and three wood fragments.

The Genoa site was the last major earthlodge village of the Pawnee before removal to Oklahoma. It was occupied by all Pawnee bands from 1859-1874, but it also has earlier Pawnee components dating in the 1600s. The Genoa site is clearly associated with the Pawnee, based on archeological and ethnohistorical information, as well as oral traditional information provided by members of the Pawnee Nation of Oklahoma.

In 1940, 321 cultural items were removed from cemeteries associated with the Clarks site (25PK1) in Polk County, NE. These objects were recovered during archeological excavations by the Nebraska State Historical Society. The 321 objects are listed as having been recovered from burials but without any further attributions. Human skeletal remains and associated funerary objects from this site were repatriated to the Pawnee Nation of Oklahoma in 1990-1991. The 321 unassociated funerary objects are: 15 brass/copper bells, one brass/copper ornament, one bridle bit, two bullet molds, five chalk fragments, four chipped stone flakes, five chipped stone tools, two clasp knives, three clay lumps, three cloth and leather fragments, 14 cobbles/pebbles, one metal/fabric coil, one cradle board, 15 earbob/tinkling cones, 18 English gunflints, one fossil antler, 32 scrap metal fragments, one fringed leather fragment, three gun parts, one iron axe head, one iron ball, three iron files, one iron fixture, one iron hoe, one iron projectile point, three iron rings, one kettle fragment, one large brass ring, two lead arrow points, nine leather straps, three metal bells, five metal buttons, one metal disk with cloth, one metal ornament, seven metal rings, two metal tubes, one lead musket ball, three mussel shells, one nail, 63 ochre/pigment fragments, two pipestone pipes, one pocket knife, one pronghorn toe bone, one raptor wing bone, one reed matting fragment, 22 reed fragments, 17 sandstone abraders, one sandstone pipe, one sheet brass/copper fragment, one shell bead, three tinkling cones, one vegetal fragment, six vegetal pieces with adhering leather fragments, one white clay pipestem, 15 white clay pipestem beads, one wood fragment with adhering leather, six wood fragments, one wooden bow segment, and one wooden bowl with cloth.

The Clarks site was occupied by the Pawnee (mostly the Grand Band) from 1823-1849. The Clarks site is clearly associated with the Pawnee Nation of Oklahoma, based on archeological and ethnohistorical information, as well as oral traditional information provided by members of the Pawnee Nation of Oklahoma.

In 1941, four cultural items were removed from cemeteries associated with the Pike Pawnee site (25WT1) in Webster County, NE. These objects were recovered during archeological excavations by the Nebraska State Historical Society. The four objects are listed as having been recovered from burials but without any further attributions. Human skeletal remains and associated funerary objects from this site were repatriated to the Pawnee Nation of Oklahoma in 1990-1991. The four unassociated funerary objects are three soil samples and one flintlock rifle.

This village was occupied by the Kitkahaki Band of the Pawnee from about 1775 to 1809, based on archeological and ethnohistorical information, as well as oral traditional information provided by members of the Pawnee Nation of Oklahoma.

Determinations Made by History Nebraska

Officials of History Nebraska have determined that:

• Pursuant to 25 U.S.C. 3001(3)(B), the 694 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Pawnee Nation of Oklahoma.

Additional Requestors and Disposition

Lineal descendants or representatives of any Indian Tribe or Native Hawaiian organization not identified in this notice that wish to claim these cultural items should submit a written request with information in support of the claim to Rob Bozell, History Nebraska, 5050 N 32nd Street, Lincoln, NE 68504, telephone (402) 525-1624, email rob.bozell@nebraska.gov, by May 27, 2021. After that date, if no additional claimants have come forward, transfer of control of the unassociated funerary objects to the Pawnee Nation of Oklahoma may proceed.

History Nebraska is responsible for notifying the Pawnee Nation of Oklahoma that this notice has been published.

Dated: April 19, 2021.
Melanie O'Brien,
Manager, National NAGPRA Program.

[FR Doc. 2021-08770 Filed 4-26-21; 8:45 am]

BILLING CODE 4312-52-P